FEDERAL ELECTION COMMISSION

Sunshine Act Notices

PREVIOUSLY ANNOUNCED DATE AND TIME: Tuesday, August 9, 2005, Meeting closed to the public, this meeting was cancelled.

PREVIOUSLY ANNOUNCED DATE AND TIME: Thursday, August 11, 2005, 10 a.m. Meeting open to the public. This meeting was cancelled.

DATE AND TIME: Tuesday, August 16, 2005 at 10 a.m.

PLACE: 999 E Street, NW., Washington, DC.

STATUS: This meeting will be closed to the public.

ITEMS TO BE DISCUSSED:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

DATE AND TIME: Tuesday, August 18, 2005 at 10 a.m.

PLACE: 999 E Street, NW., Washington, DC (Ninth Floor).

STATUS: This meeting will be closed to the public.

ITEMS TO BE DISCUSSED:

Correction and Approval of Minutes.

Revised Advisory Opinion 2005-07: Andy Mayberry and Andy Mayberry for Congress Committee.

Advisory Opinion 2005-09: Friends of Chris Dodd 2004 by counsel, Marc E. Elias.

Advisory Opinion 2005-10: Representative Howard l. Berman and Representative John T. Doolittle by counsel, Judith L. Corley and Brian G. Svoboda.

Notice of Proposed Rulemaking on Electioneering Communications.

Routine Administrative Matters.

FOR FURTHER INFORMATION CONTACT: Mr. Robert Biersack, Press Officer, Telephone: 202-694-1220.

Mary W. Dove,
Secretary of the Commission.

[FR Doc. 05-16029 Filed 8-9-05; 12:00 pm]

BILLING CODE 6715-01-M